DEPARTMENT OF HEALTH AND HUMAN SERVICES

Public Meeting of the Presidential Commission for the Study of Bioethical Issues

AGENCY: Department of Health and Human Services, Office of the Assistant Secretary for Health, Presidential Commission for the Study of Bioethical Issues.

ACTION: Notice of meeting.

SUMMARY: The Presidential Commission for the Study of Bioethical Issues will conduct its sixth meeting in August. At this meeting, the Commission will discuss research into the U.S. Public Health Service STD inoculation and serological studies in Guatemala from 1946-1948, and the current Federal standards regarding human subjects protection in scientific studies.

DATES: The meeting will take place Monday and Tuesday, August 29 and 30, 2011.

ADDRESSES: The Ritz-Carlton Hotel, 1150 22nd Street, NW., Washington, DC 20037. Phone 202-835-0500.

FOR FURTHER INFORMATION CONTACT: Hillary Wicai Viers, Communications Director, Presidential Commission for the Study of Bioethical Issues, 1425 New York Avenue, NW., Suite C-100, Washington, DC 20005. Telephone: 202-233-3960. E-mail: Hillary.Viers@bioethics.gov. Additional information may be obtained at http://www.bioethics.gov.

SUPPLEMENTARY INFORMATION: Pursuant to the Federal Advisory Committee Act of 1972, Public Law 92-463, 5 U.S.C. app. 2, notice is hereby given of the sixth meeting of the Presidential Commission for the Study of Bioethical Issues (the Commission). The meeting will be held from 10 a.m. to approximately 4 p.m. on Monday, August 29, 2011, and from 9 a.m. to approximately 4 p.m. on Tuesday, August 30, 2011, in Washington, DC. The meeting will be open to the public with attendance limited to space available. The meeting will also be webcast at http://www.bioethics.gov.

Under authority of Executive Order 13521, dated November 24, 2009, the President established the Commission. The Commission is an advisory panel of the nation's leaders in medicine, science, ethics, religion, law, and engineering. The Commission advised the President on bioethical issues arising from advances in biomedicine and related areas of science and technology. The Commission seeks to identify and promote policies and practices that ensure scientific research, health care delivery, and technological innovation are conducted in a socially and ethically responsible manner.

The main agenda items for this sixth meeting are to review Public Health Service STD inoculation and serological studies in the 1940s in Guatemala as well as contemporary Federal standards for human subjects protections in scientific studies supported by the Federal government as requested by President Obama on November 24, 2010.

The draft meeting agenda and other information about PCSBI, including information about access to the webcast, will be available at http://www.bioethics.gov.

The Commission welcomes input from anyone wishing to provide public comment on any issue before it. Respectful debate of opposing views and active participants by citizens in public exchange of ideas can enhance decisions that are reached and the overall public understanding of them. The Commission is particularly interested in receiving oral comments during the meeting that are responsive to specific sessions. Written comments will be accepted at the registration desk and comment forms will be provided for members of the public to write down questions for the Commission as they arise. To accommodate as many speakers as possible the time for each individual to speak may be limited. If the number of individuals wishing to speak is greater than can reasonably be accommodated during the scheduled meeting, the Commission may randomly select comments.

Anyone planning to attend the meeting who needs special assistance, such as sign language interpretation or other reasonable accommodations, should notify Esther Yoo (contact information above) in advance of the meeting. The Commission will make every effort to accommodate persons who need special assistance.

Written comments will also be accepted and are especially welcome. Please address written comments by e-mail to info@bioethics.gov, or by mail to the following address: Public Commentary, Presidential Commission for the Study of Bioethical Issues, 1425 New York Ave., NW., Suite C-100, Washington, DC 20005. Comments will be publicly available, including any personally identifiable or confidential business information that they contain. Trade secrets should not be submitted.

Dated: July 29, 2011.
Valerie H. Bonham,
Executive Director, Presidential Commission for the Study of Bioethical Issues.

[FR Doc. 2011-20195 Filed 8-8-11; 8:45 am]

BILLING CODE 4154-06-P